DEPARTMENT OF THE INTERIOR

National Park Service

Notice of Availability of Director's Orders 87, the Guidance for All Non-National Park Service Federal-Aid Roads and Highways in Units of the National Park Service

AGENCY: National Park Service, Interior.

ACTION: Public notice.

SUMMARY: The National Park Service (NPS) has available for public review, the proposed guidance document for all non-NPS Federal-Aid roads and highways in units of the NPS. This information was developed to provide guidance to managers in all units of the National Park System who deal with requests from State and other Department of Transportation (DOT) agencies for NPS land to be used for non-NPS Federal-Aid roads and highways. At the end of the review period, this material will appear as a Director's Order for Non-NPS Federal-Aid Roads in Parks distributed to all NPS units. The Director's Order will provide policy guidance to park managers concerning all aspects of requests for land for these purposes, from the initial contact and decisions, through 4(f) determinations, statutory requirements and NPS policy, ultimately resulting in official notification of denial or consent for the request for a deed of easement for highway purposes. The guidance document is a concise treatment of the entire subject of non-NPS Federal-Aid roads in parks including but not limited to requests for new roads and widening of existing roads.

Copies of the proposed guidance document will be made available upon request by writing: National Park Service, Ranger Activity Division, 1849 C St. NW, Suite 7408, Washington, DC 20240, or by calling 202-208-4874. The draft document is also available on the NPS website the following URL: www.nps.gov/refdesk/DOrders/index.htm.

DATES: Public comments will be accepted on or before June 6, 2000.

ADDRESSES: Comments should be addressed to: Dick Young, Special Park Uses Program Manager, C/O Colonial NHP, P. O. Box 210, Yorktown, VA 23690.

FOR FURTHER INFORMATION CONTACT: Dick Young at 757-898-7846, or 757-898-3400, ext. 51.

Dated: March 31, 2000.
Chris Andress,
Chief, Ranger Activities Division.

[FR Doc. 00-8612 Filed 4-6-00; 8:45 am]

BILLING CODE 4310-70-U